DEPARTMENT OF COMMERCE

National Oceanic and Atmospheric Administration

[I.D. 040706B]

Western Pacific Fishery Management Council; Public Meeting

AGENCY: National Marine Fisheries Service (NMFS), National Oceanic and Atmospheric Administration (NOAA), Commerce.

ACTION: Notice of public meeting.

SUMMARY: The Western Pacific Fishery Management Council (Council) will hold the annual meeting of the Council Bottomfish Plan Team (BPT).

DATES: The meeting of the BPT will be held on April 25 through April 27, 2006. For specific times, and the agenda, see SUPPLEMENTARY INFORMATION.

ADDRESSES: The meeting of the BPT will be held at the Western Pacific Fishery Management Council conference room, 1164 Bishop Street, Suite 1400, Hololulu, HI.

FOR FURTHER INFORMATION CONTACT: Kitty M. Simonds, Executive Director; telephone: (808) 522-8220.

SUPPLEMENTARY INFORMATION: The BPT will meet on April 25 through April 27, 2006 to discuss the following agenda items.

April 25, 2006, 9 a.m. to 4 p.m.

1. Introductions, approval of draft agenda and assignment of rapporteurs

2. 2005 Annual Report

a. Review 2005 Annual Report modules and recommendations for American Samoa, Guam, Commonwealth of the Northern Mariana Islands (CNMI), Administration, Protected Resources and Enforcement.

b. 2005 Annual Report Region-wide recommendations

c. Review of Annual Report Format and Structure

3. Maximum Sustainable Yield/Overfishing

a. Status of the Stock Report

b. Stock Assessment Review Process

c. Discussion and Recommendations

April 26, 2006, 8:30 a.m. to 4 p.m.

4. Status of Management Actions, Monitoring and Assessment

a. Guam 50/50 Amendment

b. CNMI 40/50 amendment

c. Northwestern Hawaiian Islands (NWHI) Bottomfish Management

i. NWHI Sanctuary Designation

ii. Council Draft Regulations

d. Main Hawaiian Islands Bottomfish Amendment and Supplementary Draft Environmental Impact Statement (DSEIS)

e. Monitoring and Assessment Initiatives

i. Bottom Camera Update

ii. Genetic Research

iii. Acoustic Tracking Projects

iv. Cooperative Research

v. Guam Offshore Bank Monitoring

f. Discussion and Recommendations

April 27, 2006, 8:30 a.m. to 4 p.m.

5. Plan Team Recommendations

6. Other Business

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 7, 2006.
Tracey L. Thompson,
Acting Director, Office of Sustainable Fisheries, National Marine Fisheries Service.

[FR Doc. E6-5390 Filed 4-11-06; 8:45 am]

BILLING CODE 3510-22-S